DEPARTMENT OF COMMERCE

National Oceanic and Atmospheric Administration

[RTID 0648-XD961]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a public webinar to collect preliminary input to inform development of the Council's next strategic plan for 2025-2029.

DATES: The meeting will be held on Thursday, May 30, 2024, from 2 p.m. until 3:30 p.m. See SUPPLEMENTARY INFORMATION for details.

ADDRESSES: The meeting will be held via webinar. Connection information will be posted prior to the meeting at www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council is guided by a 5-year strategic plan. The plan serves as a roadmap that is used to prioritize fishery management actions, focus resources, and ensure steady progress toward long-term goals. The current strategic plan will expire at the end of 2024, and the Council is preparing to develop the next strategic plan for 2025-2029.

During the webinar, the public will have an opportunity to provide feedback on the Council's performance relative to the 2020-2024 strategic plan and provide recommendations for priority issues to be addressed in the 2025-29 plan. Input received during this meeting will be considered by the Council's Executive Committee at the June 2024 Council Meeting. The public will have another opportunity to provide input once a draft strategic plan has been developed later in 2024. Additional information, updates, and instructions for providing written comments will be posted to the Council's website at: https://www.mafmc.org/strategic-plan.

Special Accommodations

The meeting is physically accessible to people with disabilities. Requests for sign language interpretation or other auxiliary aids should be directed to Shelley Spedden, (302) 526-5251 at least 5 days prior to the meeting date.

Authority: 16 U.S.C. 1801 et seq.

Dated: May 13, 2024.
Rey Israel Marquez,
Acting Deputy Director, Office of Sustainable Fisheries, National Marine Fisheries Service.

[FR Doc. 2024-10747 Filed 5-15-24; 8:45 am]

BILLING CODE 3510-22-P